DEPARTMENT OF THE INTERIOR

Bureau of Land Management

[UT-912-03-1120-PG-24-1A]

Notice of Resource Advisory Council Meeting

AGENCY: Bureau of Land Management, Department of Interior.

ACTION: Notice of Utah Resource Advisory Council (RAC) Meeting.

SUMMARY: The purpose of this notice is to announce a Resource Advisory Council Meeting scheduled for February 12, 2003, Salt Lake City, Utah.

The Bureau of Land Management's (BLM) Utah Statewide Resource Advisory Council (RAC) will be meeting on February 12, 2003, at the Best Western Salt Lake Plaza Hotel, Salt Lake Conference Room (main level of hotel), 122 West South Temple, (801) 521-0130, Salt Lake City, Utah. The meeting will begin at 8:30 a.m. and conclude at 4 p.m.

Agenda topics include an update on the San Rafael Swell, a report from the Raptor Subgroup, status report on the RMP planning process, an overview of the drought situation, feedback and discussion on the November RAC satellite broadcast, and RAC work plans for the future.

A public comment period is scheduled from 3:30 p.m.-4 p.m. where members of the public may address the Council. Written comments may be mailed to the Bureau of Land Management at the address listed below.

All meetings are open to the public; however, transportation, lodging, and meals are the responsibility of the participating public.

FOR FURTHER INFORMATION: Contact Sherry Foot, Special Programs Coordinator, Utah State Office, Bureau of Land Management, 324 South State Street, Salt Lake City, Utah 84111; phone (801) 539-4195.

Dated: Janaury 6, 2003.
Sally Wisely,
State Director.

[FR Doc. 03-1083 Filed 1-16-03; 8:45 am]

BILLING CODE 4310-$$-P